DEPARTMENT OF LABOR

Veterans' Employment and Training Service

20 CFR Part 1011

RIN 1293-AA21

Honoring Investments in Recruiting and Employing American Military Veterans (HIRE Vets) Medallion Program; Agency Information Collection Activities; OMB Approvals

AGENCY: Veterans' Employment and Training Service, Labor.

ACTION: OMB approval of information collections under Paperwork Reduction Act.

SUMMARY: This document announces that the Office of Management and Budget (OMB) has approved the information collections associated with the Honoring Investments in Recruiting and Employing American Military Veterans (HIRE Vets) Medallion Program rule under the Paperwork Reduction Act of 1995 (PRA).

DATES: On January 9, 2018, OMB approved the information collection request (ICR) the Veterans' Employment and Training Service (VETS) submitted to implement the HIRE Vets Medallion Program Rule published on November 13, 2017 (82 FR 52186) and an associated program demonstration for 2018. Employers seeking recognition under the HIRE Vets Medallion Program Demonstration may submit applications once the Program Demonstration begins on or about January 31, 2018.

ADDRESSES: A copy of this ICR with applicable supporting documentation, including a description of the likely respondents, proposed frequency of response, and estimated total burden, may be obtained free of charge by contacting Randall Smith, Veterans' Employment and Training Service, U.S. Department of Labor, Room S-1325, 200 Constitution Avenue NW, Washington, DC 20210, email: HIREVETS@dol.gov, telephone: (202) 693-4700 or TTY (877) 889-5627 (these are not toll-free numbers).

FOR FURTHER INFORMATION CONTACT: Randall Smith, Veterans' Employment and Training Service, U.S. Department of Labor, Room S-1325, 200 Constitution Avenue NW, Washington, DC 20210, email: HIREVETS@dol.gov, telephone: (202) 693-4700 or TTY (877) 889-5627 (these are not toll-free numbers).

SUPPLEMENTARY INFORMATION: The PRA, 44 U.S.C. 3501 et seq., and its attendant regulations, 5 CFR part 1320, require a Federal agency to consider the impact of paperwork and other information collection burdens imposed on the public and to solicit public comments on the information collections. The PRA also provides that an agency may not collect or sponsor the collection of information unless it displays a currently valid OMB control number. See 5 CFR 1320.8(b)(3)(vi). OMB has approved the HIRE Vets Medallion Program information collections under control number 1293-0015.

In accordance with the PRA, VETS solicited comments on the HIRE Vets Medallion Program information collections as they were proposed in a Notice of Proposed Rulemaking published August 18, 2017 (82 FR 39371). See 44 U.S.C. 3506(c)(2). The Department also submitted a contemporaneous request for OMB review of the proposed HIRE Vets Medallion Program information collections, in accordance with 44 U.S.C. 3507(d). On October 25, 2017, OMB issued a notice of action instructing the Department of Labor (DOL) to resubmit the information collections after taking public comments on the NPRM into consideration. See OMB ICR Reference Number 201707-1293-001. VETS published the HIRE Vets Medallion Program Final Rule in the Federal Register on November 13, 2017 (82 FR 52186). On the same day, DOL submitted the ICR that OMB requested, and OMB approved the ICR on January 9, 2018. See OMB ICR Reference Number 201710-1293-002. For additional substantive information about this ICR, see the related documents published in the Federal Register on August 18, 2017 (82 FR 39371), and November 13, 2017 (82 FR 52186).

The information collection and its annual burden on the public may be summarized as follows:

Agency: DOL-VETS.

Title of Collection: Honoring Investments in Recruiting and Employing (HIRE) American Military Veterans (HIRE Vets) Medallion Program.

OMB Control Number: 1293-0015.

Affected Public: Private Sector—businesses or other for-profits.

Total Estimated Number of Annual Responses: 34,184.

Total Estimated Annual Time Burden: 58,556 hours.

Total Estimated Annual Other Costs Burden: $1,045,486.

Authority: 44 U.S.C. 3507(a)(1)(D).

OMB Control Number: 1293-0015.

Authority: 44 U.S.C. 3506(c).

Dated: January 18, 2018.
J.S. Shellenberger,
Deputy Assistant Secretary for the Veterans' Employment and Training Service.

[FR Doc. 2018-01262 Filed 1-25-18; 8:45 am]

BILLING CODE 4510-79-P